DEPARTMENT OF HOUSING AND URBAN DEVELOPMENT

[Docket No. FR-4878-N-04]

Final Guidance to Federal Financial Assistance Recipients Regarding Title VI Prohibition Against National Origin Discrimination Affecting Limited English Proficient Persons: Change in Effective Date of Final Guidance

AGENCY: Office of the Assistant Secretary for Fair Housing and Equal Opportunity, HUD.

ACTION: Notice: Change in Effective Date of Final Guidance.

SUMMARY: Through this notice, HUD advises members of the public that its final “Guidance to Federal Financial Assistance Recipients Regarding Title VI Prohibition Against National Origin Discrimination Affecting Limited English Proficient (LEP) Persons,” as required by Executive Order (EO) 13166, published in the Federal Register on January 22, 2007, and scheduled to become effective on February 21, 2007, will now become effective on March 7, 2007.

HUD is moving the effective date to March 7, 2007, in order to allow HUD the opportunity to brief interested members of the public on the guidance before it takes effect. A meeting for this purpose originally scheduled to be held at HUD Headquarters on February 13, 2007, had to be rescheduled for February 28, 2007. Please see notice published elsewhere in today's Federal Register. Therefore, HUD is moving the effective date of the final guidance to March 7, 2007.

DATES: Effective Date: March 7, 2007.

FOR FURTHER INFORMATION CONTACT: Pamela D. Walsh, Director, Program Standards and Compliance Division, Office of Fair Housing and Equal Opportunity, Department of Housing and Urban Development, 451 Seventh Street, SW., Room 5226, Washington DC 20410, telephone: (202) 402-2288 (this is not a toll-free number). Persons with hearing or speech impairments may access this number via TTY by calling the toll-free Federal Information Relay Service at (800) 877-8339.

SUPPLEMENTARY INFORMATION: On January 22, 2007, HUD published in the Federal Register (72 FR 2732) final guidance to help recipients of federal financial assistance take reasonable steps to meet their regulatory and statutory obligations to ensure that LEP persons have meaningful access to HUD programs and activities (LEP Final Guidance). Under Title VI of the Civil Rights Act of 1964 (Title VI) and its implementing regulations, recipients of federal financial assistance have a responsibility to ensure meaningful access to programs and activities by LEP persons. HUD's LEP Final Guidance can be found at http://www.hud.gov/offices/fheo/promotingfh/lep.cfm. This guidance was scheduled to become effective on February 21, 2007.

In order to allow HUD to brief interested members of the public and affected parties, HUD is moving the effective date to March 7, 2007. HUD's briefing was originally scheduled for February 13, 2007, and has been rescheduled. Please see rescheduled meeting notice published elsewhere in today's Federal Register.

Dated: February 12, 2007.
Kim Kendrick,
Assistant Secretary for Fair Housing and Equal Opportunity.

[FR Doc. E7-2813 Filed 2-15-07; 8:45 am]

BILLING CODE 4210-67-P